DEPARTMENT OF COMMERCE

International Trade Administration

[A-570-853]

Bulk Aspirin From the People's Republic of China: Final Results of 2002/2003 Antidumping Duty Administrative Review and Final Determination To Revoke the Order In Part

AGENCY: Import Administration, International Trade Administration, Department of Commerce.

ACTION: Notice of final results of antidumping duty administrative review and revocation of the order in part.

SUMMARY: On April 8, 2004, the Department of Commerce published the preliminary results of the 2002/2003 administrative review of the antidumping duty order on bulk aspirin from the People's Republic of China with respect to Shandong Xinhua Pharmaceutical Co., Ltd. This review covers sales of bulk aspirin to the United States during the period July 1, 2002, through June 30, 2003. Based on our analysis of comments received, we conclude that the final results do not differ from the preliminary results of review, in which we found that the respondent made sales in the United States at prices not below normal value. We also find that the antidumping duty order with respect to Shandong Xinhua Pharmaceutical Co., Ltd. should be revoked.

DATES: Effective Date: June 22, 2004.

FOR FURTHER INFORMATION CONTACT: Julie Santoboni or Scott Holland, Import Administration, International Trade Administration, U.S. Department of Commerce, 14th and Constitution Avenue, NW., Washington, DC 20230; telephone (202) 482-4194 or (202) 482-1279, respectively.

SUPPLEMENTARY INFORMATION:

Background

Since the publication of the preliminary results of this review (Bulk Aspirin from the People's Republic of China: Preliminary Results of 2002/2003 Antidumping Duty Administrative Review And Notice Of Intent To Revoke Order In Part, 69 FR 18520 (April 8, 2004) (“Preliminary Results”)), the following events have occurred:

On May 10, 2004, the Department of Commerce (“the Department”) issued the verification report for Shandong Xinhua Pharmaceutical Co., Ltd. (“Shandong”). See Memorandum to the File, “Shandong Xinhua Pharmaceutical Co., Ltd. Verification Report,” dated May 10, 2004. This report is on file in the Central Records Unit, Room B-099 of the main Department Building (“CRU”).

On May 10, 2004, Perrigo Company (“Perrigo”), an interested party, and Shandong submitted case briefs. No rebuttal briefs were submitted, nor was a public hearing held.

Scope of the Order

The product covered by the order is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula (C9H8O4. It is defined by the official monograph of the United States Pharmacopoeia 23 (“USP”). It is currently classifiable under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is currently classifiable under HTSUS subheading 3003.90.0000.

Although the HTSUS subheadings are provided for convenience and customs purposes, the written description of the merchandise under review is dispositive.

Period of Review

The period of review (“POR”) is July 1, 2002, through June 30, 2003.

Verification

As stated in the Preliminary Results and provided in section 782(i) of the Act, we verified information submitted by Shandong using standard verification procedures, including on-site inspection of the manufacturer's facility and examination of the relevant sales, cost, and financial records.

Determination To Revoke

The Department “may revoke, in whole or in part” an antidumping duty order upon completion of a review under section 751(d)(1) of the Tariff Act of 1930, as amended (“the Act”). While Congress has not specified the procedures that the Department must follow in revoking an order, the Department has developed a procedure for revocation that is described in 19 CFR 351.222. Under 351.222(b), the Department may revoke an antidumping duty order in part if it concludes that (i) an exporter or producer has sold the merchandise at not less than normal value for a period of at least three consecutive years, (ii) the exporter or producer has agreed in writing to its immediate reinstatement in the order if the Secretary concludes that the exporter or producer, subsequent to the revocation, sold the subject merchandise at less than normal value, and (iii) the continued application of the antidumping duty order is no longer necessary to offset dumping. Section 351.222(b)(3) states that, in the case of an exporter that is not the producer of subject merchandise, the Department normally will revoke an order in part under section 351.222(b)(2) only with respect to subject merchandise produced or supplied by those companies that supplied the exporter during the time period that formed the basis for revocation.

A request for revocation of an order in part must address three elements. The company requesting the revocation must do so in writing and submit the following statements with the request: (1) The company's certification that it sold the subject merchandise at lot less than normal value during the current review period and that, in the future, it will not sell at less than normal value; (2) the company's certification that, during each of the consecutive years forming the basis of the request, it sold the subject merchandise to he United States in commercial quantities; and (3) the agreement to reinstatement in the order if the Department concludes that the company, subsequent to revocation, has sold the subject merchandise at less than normal value. See 19 CFR 351.222(e)(1).

Consistent with the Preliminary Results, we continue to find that the request from Shandong meets all of the criteria under 19 CFR 351.222(e)(1). Shandong's revocation request includes the necessary certifications in accordance with section 351.222(e) of the Department's regulations. Shandong has also agreed in writing to the immediate reinstatement in the order, as long as any exporter or producer is subject to the order, if the Department concludes that Shandong, subsequent to the revocation, has sold the subject merchandise at less than normal value. With regard to the criteria of section 351.222(b)(2) of the Department's regulations, our final margin calculations show that Shandong sold bulk aspirin at not less than normal value during the current review period. See Final Results section below. In addition, Shandong sold bulk aspirin at not less than normal value in the two previous administrative reviews in which it was involved. See Notice of Amended Final Results of Antidumping Duty Administrative Review: Bulk Aspirin from the People's Republic of China, 68 FR 12036 (March 13, 2003), covering the period July 6, 2000, through June 30, 2001, and Notice of Amended Final Results of Antidumping Duty Administrative Review: Bulk Aspirin from the People's Republic of China. 68 FR 54890 (September 19, 2003), covering the period July 1, 2001, through June 30, 2002. Based on our examination of the sales data submitted by Shandong, we determine that Shandong sold the subject merchandise in the United States in commercial quantities in each of the consecutive years cited by Shandong to support its request for revocation. See Final Results Calculation Memorandum Shandong Xinhua Pharmaceutical Co., dated June XX, 2004, which is on file in the Department's CRU. Also we determine that application of the antidumping order to Shandong is no longer necessary for the following reasons: (1) The company had zero or de minimis margins for a period of at least three consecutive years; (2) the company has agreed to immediate reinstatement of the order if the Department finds that it has resumed making sales at less than normal value; and (3) the continues application of the order is not otherwise necessary to offset dumping.

Therefore, we determine that Shandong qualifies for revocation of the order on bulk aspirin from the PRC pursuant to 19 CFR 351.222(b)(2) and that the order with respect to merchandise produced and exported by Shandong should be revoked. In accordance with 19 CFR 351.222(f)(3), we will terminate the suspension of liquidation for bulk aspirin produced and exported by Shandong that was entered, or withdrawn from warehouse, for consumption on or after July 1, 2003, and will instruct the U.S. Customs and Border Protection (“CBP”) to refund with interest any cash deposits for such entries.

Analysis of Comments Received

In the May 10, 2004, submissions by Perrigo and Shandong, both parties agreed with the Department's findings in the Preliminary Results and asserted that the order should be revoked with respect to Shandong. Furthermore, Perrigo and Shandong also requested that the Department issue the final results on an expedited basis.

We received no other comments on the Preliminary Results.

Fair Value Comparisons

We calculated export price (“EP”), and normal value (“NV”) based on the same methodologies used in the Preliminary Results.

Final Results of the Review

We have determined that no changes to our analysis are warranted for purposes of these final results. As a result of this review, we find that the following dumping margin exists for the period July 1, 2002, through June 30, 2003:

Exporter/Manufacturer | Weighted-average margin percentage
Shandong Zinhua Pharmaceutical Co., Ltd | 0.00

Assessment Rates

The Department will determine, and CBP shall assess, antidumping duties on all appropriate entries. In accordance with 19 CFR 351.212(b)(1), we have calculated importer (or customer)-specific assessment rates for merchandise subject to this review. To determine whether the duty assessment rates were de minimis, in accordance with the requirement set forth in 19 CFR 351.106(c)(1), we calculated importer (or customer)-specific ad valorem rates by aggregating the dumping margins calculated for all U.S. sales to that importer (or customer) and dividing this amount by the total value of the sales to that importer (or customer). Where an importer (or customer)-specific ad valorem rate was greater than de minimis, we calculated a per-unit assessment rate by aggregating the dumping margins calculated for all U.S. sales to that importer (or customer) and dividing this amount by the total quantity sold to that importer (or customer).

All other entries of the subject merchandise during the POR will be liquidated at the antidumping duty rate in place at the time of entry.

The Department will issue appropriate assessment instructions directly to CBP within 15 days of publication of this notice of final results of review.

Cash Deposit Rates

The following deposit requirements will be effective upon publication of this notice of final results of administrative review for all shipments of bulk aspirin from the PRC entered, or withdrawn from warehouse, for consumption on or after the publication date, as provided for by section 751(a)(1) of the Act: (1) Because Shandong is excluded from the antidumping duty order, no cash deposit shall be required; (2) for a company previously found to be entitled to a separate rate and for which no review was requested, the cash deposit rate will be the rate established in the most recent review of that company; (3) for all other PRC exporters of subject merchandise, the rate will be the PRC country-wide rate, which is 144.02 percent, the PRC-wide rate established in the less-than-fair-value (“LTFV”) investigation. See Notice of Antidumping Duty Order: Bulk Aspirin from the People's Republic of China, 65 FR 42673 (July 11, 2000); and (4) for non-PRC exporters of subject merchandise from the PRC, the cash deposit rate will be the rate applicable to the PRC exporter that supplied that exporter.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding APOs

This notice also serves as a reminder to parties subject to administrative protective order (“APO”) of their responsibility concerning the disposition of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

We are issuing and publishing this determination and notice in accordance with sections 751(a)(1) and 777(i)(1) of the Act.

Dated: June 14, 2004.
James J. Jochum
Assistant Secretary for Import Administration.

[FR Doc. 04-13991 Filed 6-21-04; 8:45 am]

BILLING CODE 3510-DS-M